DEPARTMENT OF TRANSPORTATION

Federal Aviation Administration

Membership in the National Parks Overflights Advisory Group Aviation Rulemaking Committee

AGENCY: Federal Aviation Administration, Department of Transportation.

ACTION: Notice.

SUMMARY: By Federal Register notice (See 77 FR 27835-27836, May 11, 2012 and 77 FR 48201, August 13, 2012) the National Park Service (NPS) and the Federal Aviation Administration (FAA) invited interested persons to apply to fill one upcoming opening on the National Parks Overflights Advisory Group (NPOAG) Aviation Rulemaking Committee (ARC). The notice invited interested persons to apply to fill a vacancy representing environmental concerns due to the incumbent member's completion of a three-year term appointment on October 9, 2012. Since the previous notices did not draw enough responses from individuals for the open environmental vacancy, NPS and FAA are using this notice to invite other interested individuals to apply for the environmental opening. If you responded to either of the initial notices for the environmental opening, you will still be under consideration and need not re-apply. This notice also informs the public of another upcoming opening to represent commercial air tour operator interests due to an incumbent member's completion of a three-year term appointment on May 19, 2013.

DATES: Persons interested in applying for the NPOAG openings representing environmental concerns and commercial air tour operator interests need to apply by February 22, 2013.

FOR FURTHER INFORMATION CONTACT: Keith Lusk, Special Programs Staff, Federal Aviation Administration, Western-Pacific Region Headquarters, P.O. Box 92007, Los Angeles, CA 90009-2007, telephone: (310) 725-3808, email: Keith.Lusk@faa.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American interests. Current members of the NPOAG ARC are as follows:

Heidi Williams representing general aviation; Alan Stephen, Elling Halvorson, and Matthew Zuccaro representing commercial air tour operators; Greg Miller, Kristen Brengel, and Dick Hingson representing environmental interests with one open seat; and Rory Majenty and Martin Begaye representing Native American tribes.

Selection

The member selected to represent environmental concerns will be filling a currently open seat. The member selected to represent commercial air tour operator interests will be filling incumbent Elling Halvorson's seat which expires on May 19, 2013. Current members may apply for another term. The term of service for NPOAG ARC members is 3 years.

Additional Openings

In order to retain balance within the NPOAG ARC with these two openings, the FAA and NPS invite persons interested in representing environmental concerns and commercial air tour operator interests on the ARC to contact Mr. Keith Lusk (contact information is written above in FOR FURTHER INFORMATION CONTACT).

Requests to serve on the ARC must be made to Mr. Lusk in writing and postmarked or emailed on or before February 22, 2013. The request should indicate whether or not you are a member of an association or group related to environmental issues or commercial air tour operator interests or have another affiliation with issues relating to aircraft flights over national parks. The request should also state what expertise you would bring to the NPOAG ARC as related to these issues and concerns. The term of service for NPOAG ARC members is 3 years.

Issued in Hawthorne, CA, on January 8, 2013.
Keith Lusk,
Program Manager, Special Programs Staff, Western-Pacific Region.

[FR Doc. 2013-01381 Filed 1-23-13; 8:45 am]

BILLING CODE 4910-13-P